DEPARTMENT OF ENERGY

Federal Energy Regulatory Commission

[Project No. 13336-000]

FFP Project 34, LLC; Notice of Preliminary Permit Application Accepted for Filing and Soliciting Comment, Motions To Intervene, and Competing Applications

May 14, 2009.

On November 24, 2008, FFP Project 34, LLC filed an application, pursuant to section 4(f) of the Federal Power Act, proposing to study the feasibility of the Mississippi River Lock and Dam No. 6 Water Power Project (Lock & Dam 6 Project), to be located at River Mile 714.3 on the Mississippi River in Trempealeau County, Wisconsin and Winona County, Minnesota, and near the town of Trempealeau, WI. Also, the reservoir runs through a portion of the Upper Mississippi River National Wildlife and Fish Refuge.

The proposed Lock & Dam 6 Project would be integral with: (1) The existing U.S. Army Corps of Engineers Lock & Dam No. 6 comprised of an 893-foot-long gated dam section with 5 roller gates and 10 tainter gates, and a 600 foot-long lock; and (2) an existing 14-mile long, 21,817-acre reservoir at a normal pool elevation of 645.5 feet mean sea level and 31,200 acre-feet of storage.

The proposed project would consist of: (1) 30 Very Low Head (VHL) generating units and 70 hydrokinetic generating units totaling 11.0 megawatts (MW) installed capacity; (2) a new 69-kilovolt transmission line connected to an existing above ground local distribution system; and (3) appurtenant facilities. The project would have an estimated average annual generation of 55,900 megawatt-hours.

Applicant Contact: Mr. Daniel R. Irvin, Free Flow Power Corporation, 33 Commercial Street, Gloucester, MA 01930, phone (978) 252-7631.

FERC Contact: Patrick Murphy, (202) 502-8755.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13336) in the docket number field to access the document. For assistance, call toll-free 1-866-208-3372.

Kimberly D. Bose,
Secretary.

[FR Doc. E9-11801 Filed 5-20-09; 8:45 am]

BILLING CODE 6717-01-P